DEPARTMENT OF ENERGY

Federal Energy Regulatory Commission

Combined Notice of Filings #1

Take notice that the Commission received the following electric corporate filings:

Docket Numbers: EC15-78-000.

Applicants: Louisville Gas & Electric Company, Kentucky Utilities Company.

Description: Application of Louisville Gas & Electric Company, et al.

Filed Date: 2/25/15.

Accession Number: 20150225-5346.

Comments Due: 5 p.m. ET 3/18/15.

Docket Numbers: EC15-79-000.

Applicants: Blackwell Solar, LLC, Lost Hills Solar, LLC.

Description: Application of Blackwell Solar, LLC, et al. for Authorization Under Section 203 of the Federal Power Act and Request for Expedited Action, Confidential Treatment, and Waivers.

Filed Date: 2/26/15.

Accession Number: 20150226-5339.

Comments Due: 5 p.m. ET 3/19/15.

Docket Numbers: EC15-80-000.

Applicants: DES Wholesale, LLC.

Description: Application for Disposition of Facilities of DES Wholesale, LLC.

Filed Date: 2/26/15.

Accession Number: 20150226-5349.

Comments Due: 5 p.m. ET 3/19/15.

Take notice that the Commission received the following exempt wholesale generator filings:

Docket Numbers: EG15-56-000.

Applicants: Red Horse Wind 2, LLC.

Description: Red Horse Wind 2, LLC Notice of Self-Certification of Exempt Wholesale Generator Status.

Filed Date: 2/27/15.

Accession Number: 20150227-5368.

Comments Due: 5 p.m. ET 3/20/15.

Docket Numbers: EG15-57-000.

Applicants: Balko Wind, LLC.

Description: Balko Wind, LLC Notice of Self-Certification of Exempt Wholesale Generator Status.

Filed Date: 2/27/15.

Accession Number: 20150227-5369.

Comments Due: 5 p.m. ET 3/20/15.

Take notice that the Commission received the following electric rate filings:

Docket Numbers: ER15-871-001.

Applicants: Wheelabrator Westchester, L.P.

Description: Compliance filing per 35: Compliance to 94 to be effective 3/18/2015.

Filed Date: 2/27/15.

Accession Number: 20150227-5137.

Comments Due: 5 p.m. ET 3/20/15.

Docket Numbers: ER15-999-001.

Applicants: Luke Paper Company.

Description: Compliance filing per 35: Amendment to be effective 4/7/2015.

Filed Date: 2/27/15.

Accession Number: 20150227-5227.

Comments Due: 5 p.m. ET 3/20/15.

Docket Numbers: ER15-1129-000.

Applicants: PJM Interconnection, L.L.C.

Description: § 205(d) rate filing per 35.13(a)(2)(iii): Service Agreement No. 3402; Queue No. Y2-105 to be effective 1/27/2015.

Filed Date: 2/26/15.

Accession Number: 20150226-5309.

Comments Due: 5 p.m. ET 3/19/15.

Docket Numbers: ER15-1130-000.

Applicants: Midcontinent Independent System Operator, Ameren Illinois Company.

Description: § 205(d) rate filing per 35.13(a)(2)(iii): 2015-02-27_SA 2752 Ameren-Bishop Hill Interconnection FSA to be effective 1/28/2015.

Filed Date: 2/27/15.

Accession Number: 20150227-5125.

Comments Due: 5 p.m. ET 3/20/15.

Docket Numbers: ER15-1131-000.

Applicants: New England Power Pool Participants Committee.

Description: § 205(d) rate filing per 35.13(a)(2)(iii): March 2015 Membership Filing to be effective 3/1/2015.

Filed Date: 2/27/15.

Accession Number: 20150227-5337.

Comments Due: 5 p.m. ET 3/20/15.

Docket Numbers: ER15-1132-000.

Applicants: Entergy Louisiana Power, LLC.

Description: Baseline eTariff Filing per 35.1: ELP MBR Application to be effective 12/31/9998.

Filed Date: 2/27/15.

Accession Number: 20150227-5340.

Comments Due: 5 p.m. ET 3/20/15.

Docket Numbers: ER15-1133-000.

Applicants: Idaho Power Company.

Description: § 205(d) rate filing per 35.13(a)(2)(iii): PAC Long-Term Firm BORA-LGBP Service Agreement to be effective 5/1/2015.

Filed Date: 2/27/15.

Accession Number: 20150227-5381.

Comments Due: 5 p.m. ET 3/20/15.

Docket Numbers: ER15-1134-000.

Applicants: Midcontinent Independent System Operator, Inc., American Transmission Company LLC.

Description: § 205(d) rate filing per 35.13(a)(2)(iii): 2015-02-27_SA 2754 ATC-ACEC Elective Facilities Construction Agreement to be effective 4/29/2015.

Filed Date: 2/27/15.

Accession Number: 20150227-5387.

Comments Due: 5 p.m. ET 3/20/15.

Docket Numbers: ER15-1135-000.

Applicants: PJM Interconnection, L.L.C.

Description: § 205(d) rate filing per 35.13(a)(2)(iii): Service Agreement No. 4094; NQ128 (ISA) to be effective 1/30/2015.

Filed Date: 2/27/15.

Accession Number: 20150227-5396.

Comments Due: 5 p.m. ET 3/20/15.

Docket Numbers: ER15-1136-000.

Applicants: Big Cajun I Peaking Power LLC.

Description: § 205(d) rate filing per 35.13(a)(2)(iii): Proposed Rate Schedule FERC No. 2 to be effective 5/1/2015.

Filed Date: 2/27/15.

Accession Number: 20150227-5424.

Comments Due: 5 p.m. ET 3/20/15.

Docket Numbers: ER15-1137-000.

Applicants: ISO New England Inc.

Description: ISO New England Inc. 9th Forward Capacity Auction Results.

Filed Date: 2/27/15.

Accession Number: 20150227-5434.

Comments Due: 5 p.m. ET 4/13/15.

Docket Numbers: ER15-1138-000.

Applicants: PJM Interconnection, L.L.C.

Description: § 205(d) rate filing per 35.13(a)(2)(iii): Service Agreement No. 4097; Queue AA1-019 (WMPA) to be effective 2/2/2015.

Filed Date: 2/27/15.

Accession Number: 20150227-5440.

Comments Due: 5 p.m. ET 3/20/15.

Docket Numbers: ER15-1139-000.

Applicants: Southwest Power Pool, Inc.

Description: § 205(d) rate filing per 35.13(a)(2)(iii): Attachment J Section III.D Revisions to be effective 5/1/2015.

Filed Date: 2/27/15.

Accession Number: 20150227-5457.

Comments Due: 5 p.m. ET 3/20/15.

Docket Numbers: ER15-1140-000.

Applicants: Southwest Power Pool, Inc.

Description: § 205(d) rate filing per 35.13(a)(2)(iii): 2198R18 Kansas Power Pool NITSA NOA to be effective 2/1/2015.

Filed Date: 2/27/15.

Accession Number: 20150227-5463.

Comments Due: 5 p.m. ET 3/20/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 27, 2015.
Nathaniel J. Davis, Sr.,
Deputy Secretary.

[FR Doc. 2015-05245 Filed 3-5-15; 8:45 am]

BILLING CODE 6717-01-P